SECURITIES AND EXCHANGE COMMISSION

[File No. 500-1]

In The Matter of Revolutionary Concepts, Inc.; Order of Suspension of Trading

June 17, 2015.

It appears to the Securities and Exchange Commission (“Commission”) that there is a lack of current and accurate information concerning the securities of Revolutionary Concepts, Inc. (“REVO”) because, among other things, of questions regarding the accuracy and completeness of REVO's representations to investors and prospective investors in REVO's public filings with the Commission and REVO's publicly-available press releases and other public statements.

In particular, there are questions regarding the accuracy and completeness of REVO's public assertions relating to, among other things: (1) REVO's license of certain patents to Eyetalk365, LLC (“Eyetalk”), including a $900,000 “in consideration” fee paid by Eyetalk to REVO and related net income received by REVO; (2) a line of credit of up to $10 million obtained by REVO's wholly-owned subsidiary, Greenwood Finance Group, LLC (“Greenwood”); (3) Greenwood's ownership of $7 million of promissory notes, and interest payments made to Greenwood in connection with such promissory notes with a projected possible cash value exceeding $1 million; and (4) REVO's possible plans to issue dividends and buy back shares of its common stock. In addition, REVO currently is delinquent in filing its Form 10-K annual report for its fiscal year ended December 31, 2014, and its Form 10-Q quarterly report for its first quarter ended March 31, 2015.

Based on REVO's most recent Form 10-K annual report filed for its fiscal year ended December 31, 2013, REVO is a Nevada corporation based in Charlotte, North Carolina. The company's common stock is quoted on OTC Link operated by OTC Markets Group, Inc. under the symbol “REVO.” As of June 5, 2015, the company's stock had 10 market makers and was eligible for the “piggyback” exception of Rule 15c2-11(f)(3).

The Commission is of the opinion that the public interest and the protection of investors require a suspension of trading in the securities of REVO.

Therefore, it is ordered, pursuant to Section 12(k) of the Securities Exchange Act of 1934, that trading in the securities of REVO is suspended for the period from 9:30 a.m. EDT on June 17, 2015, through 11:59 p.m. EDT on June 30, 2015.

By the Commission.
Jill M. Peterson,
Assistant Secretary.

[FR Doc. 2015-15224 Filed 6-17-15; 11:15 am]

BILLING CODE 8011-01-P